DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by June 30, 2025 will be considered. Written comments and recommendations for the proposed information collection should be submitted within 30 days of the publication of this notice on the following website www.reginfo.gov/public/do/PRAMain. Find this particular information collection by selecting “Currently under 30-day Review—Open for Public Comments” or by using the search function. An agency may not conduct or sponsor a collection of information unless the collection of information displays a currently valid OMB control number and the agency informs potential persons who are to respond to the collection of information that such persons are not required to respond to the collection of information unless it displays a currently valid OMB control number.

Animal and Plant Health Inspection Service

Title: Highly Pathogenic Avian Influenza (HPAI); Additional Testing, and Reporting of HPAI in Livestock and Milk.

OMB Control Number: 0579-0496.

Summary of Collection: The Animal Health Protection Act (AHPA) of 2002 is the primary Federal law governing the protection of animal health. The law gives the Secretary of Agriculture broad authority to detect, control, or eradicate pests or diseases of livestock or poultry. The Secretary may also prohibit or restrict import or export of any animal or related material if required to prevent the spread of any livestock or poultry pest or disease. Part of the mission of APHIS' Veterinary Services (VS) business unit is preventing foreign animal disease outbreaks in the United States, and monitoring, controlling, and eliminating a disease outbreak should one occur.

Highly pathogenic avian influenza (HPAI) is a contagious viral disease of domestic poultry and wild birds, and is deadly to domestic poultry, wiping out entire flocks within a matter of days. HPAI is a threat to the poultry industry, animal health, human health, trade, and the economy worldwide. In the United States, HPAI H5N1 was detected in dairy cattle in March of 2024.

On April 24, 2024, APHIS announced a Federal Order to assist with developing a baseline of critical information and limiting the spread of H5N1 in dairy cattle. The Federal Order requires testing lactating dairy cattle prior to interstate movement and mandatory reporting from laboratories of positive Influenza A cases in livestock as well as epidemiological reporting.

On December 6, 2024, APHIS issued a second Federal Order to help limit the spread of H5N1. This order specifically addresses the spread of the virus through raw milk and adds testing of raw (unpasteurized) milk to detect and provide data for the control and eradication of HPAI. As of April 11, 2025, USDA has confirmed 1,020 HPAI H5N1 clade 2.3.4.4b virus detections in 17 States. APHIS has also confirmed 123 detections in poultry premises across 14 States with the same HPAI H5N1 virus B3.13 genotype detected in dairy cattle.

Need and Use of the Information: The second Federal Order specifically addresses the spread of the virus through raw milk and adds testing of raw (unpasteurized) milk to detect and provide data for the control and eradication of HPAI. Samples will be collected at facilities that ship, receive, or transfer milk interstate. Laboratories and State veterinarians must report positive Influenza A nucleic acid detection results (e.g., polymerase chain reaction (PCR) or genetic sequencing) in diagnostic samples obtained from livestock, including raw (unpasteurized) milk, to APHIS. While movement controls implemented under the earlier Federal Order have had a positive effect on reducing transmission across State lines, HPAI infections linger in States that have not been able to institute a widespread bulk milk testing program.

Description of Respondents: Businesses; State, Local, and Tribal.

Number of Respondents: 2,650.

Frequency of Responses: Reporting; On occasion; Quarterly.

Total Burden Hours: 82,655.

Rachelle Ragland-Greene,
Departmental Information Collection Clearance Officer.

[FR Doc. 2025-09608 Filed 5-28-25; 8:45 am]

BILLING CODE 3410-34-P